DEPARTMENT OF THE TREASURY

Office of the Comptroller of the Currency

Agency Information Collection Activities: Information Collection Revision; Submission for OMB Review; Licensing Manual

AGENCY: Office of the Comptroller of the Currency (OCC), Treasury.

ACTION: Notice and request for comment.

SUMMARY: The OCC, as part of its continuing effort to reduce paperwork and respondent burden, invites the general public and other Federal agencies to take this opportunity to comment on the revision to a continuing information collection as required by the Paperwork Reduction Act of 1995 (PRA). In accordance with the requirements of the PRA, the OCC may not conduct or sponsor, and respondents are not required to respond to, an information collection unless it displays a currently valid Office of Management and Budget (OMB) control number. The OCC is soliciting comment concerning the renewal of its information collection titled “Licensing Manual.” The OCC also is giving notice that the collection has been sent to OMB for review.

DATES: Comments must be received on or before December 9, 2022.

ADDRESSES: Commenters are encouraged to submit comments by email, if possible. You may submit comments by any of the following methods:

• Email: prainfo@occ.treas.gov.

• Mail: Chief Counsel's Office, Attention: Comment Processing, 1557-0014, Office of the Comptroller of the Currency, 400 7th Street SW, Suite 3E-218, Washington, DC 20219.

• Hand Delivery/Courier: 400 7th Street SW, Suite 3E-218, Washington, DC 20219.

• Fax: (571) 293-4835.

Instructions: You must include “OCC” as the agency name and “1557-0014” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should also be sent within 30 days of publication of this notice to www.reginfo.gov/public/do/PRAMain. You can find this information collection by selecting “Currently under 30-day Review—Open for Public Comments” or by using the search function.

On July 1, 2022, the OCC published a 60-day notice for this information collection, (87 FR 39590). You may review comments and other related materials that pertain to this information collection following the close of the 30-day comment period for this notice by the method set forth in the next bullet.

• Viewing Comments Electronically Go to www.reginfo.gov. Hover over the “Information Collection Review” tab and click on “Information Collection Review” from the drop-down menu. From the “Currently under Review” drop-down menu, select “Department of Treasury” and then click “submit.” This information collection can be located by searching by OMB control number “1557-0014” or “Licensing Manual.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, Clearance Officer, (202) 649-5490, Chief Counsel's Office, Office of the Comptroller of the Currency, 400 7th Street SW, Suite 3E-218, Washington, DC 20219. If you are deaf, hard of hearing, or have a speech disability, please dial 7-1-1 to access telecommunications relay services.

SUPPLEMENTARY INFORMATION: Under the PRA (44 U.S.C. 3501-3520), Federal agencies must obtain approval from the OMB for each collection of information they conduct or sponsor. “Collection of information” is defined in 44 U.S.C. 3502(3) and 5 CFR 1320.3(c) to include agency requests or requirements that members of the public submit reports, keep records, or provide information to a third party. The OCC asks OMB to approve this revised collection.

Title: Licensing Manual.

OMB Control No.: 1557-0014.

Abstract: The Licensing Manual sets forth the OCC's policies and procedures for the formation of a national bank or Federal branch or agency, entry into the Federal banking system by other institutions, and corporate expansion and structural changes by existing banks. The Manual includes sample documents to assist the applicant in understanding the types of information the OCC needs in order to process a filing. An applicant may use the format of the sample documents or any other format that provides sufficient information for the OCC to act on a particular filing, including the OCC's electronic filing system, the Central Application Tracking System (CATS).

To reflect revisions to 12 CFR part 5, which was revised effective January 11, 2021,¹ the following applications, notices and templates are being amended.

¹ 85 FR 80404 (December 11, 2020).

• Instructions—Bylaws (National Banks)

• Instructions—Articles of Association (National Banks)

• Articles of Association (National Banks)

• Model Bylaws for Stock Associations (Federal Savings Associations)

• Model Charter for Stock Associations (Federal Savings Associations)

• Federal Mutual Association Charter (Federal Savings Associations)

• Federal Mutual Association Bylaws (Federal Savings Associations)

• Application for Charter or Bylaw Amendment (Federal Savings Associations)

• Notice for Charter and Bylaw Amendment (Federal Savings Associations)

• Management Interlock Application

• Increase in Permanent Capital and Preferred Stock Terms Application

• Increase in Permanent Capital Notice

• Application for Reduction of Permanent Capital, or Dividends Payable in Property Other Than Cash, or Capital Distribution

• Reverse Stock Split Application

• Quasi-Reorganization Application

• Issuance of, or Prepayment of, or Material Changes to Subordinated Debt After-the-Fact Notice

• Issuance of Subordinated Debt and Inclusion as Tier 2 Capital Application

• Prepayment of, or Material Changes to, Existing Subordinated Debt Application

• Operating Subsidiary Application

• Other Equity and Pass-Through Investments Application

• Operating Subsidiary After-the-Fact Notice (National Banks)

• Equity Investment in Statutory Subsidiary After-the-Fact Notice (National Banks)

• Financial Subsidiary Application (National Banks)

• Financial Subsidiary Certification (National Banks)

• Financial Subsidiary Application and Certification (National Banks)

• Bank Service Company Notice

• Service Corporation Application (Federal Savings Associations)

• Subsidiary Redesignation Notice (Federal Savings Associations)

• 12 U.S.C. 1828(m) Investment Application (Federal Savings Associations)

• After-the-Fact Notice for Satisfaction of DPC Other Equity Investments and Pass-Through Investments

• After-the-Fact Notice for Other Equity Investments and Pass Through Investments

Type of Review: Extension of a currently approved collection.

Affected Public: Individuals; Businesses or other for-profit.

Frequency of Response: On occasion.

Estimated Number of Respondents: 3,694.

Estimated Total Annual Burden: 12,481.15.

On July 1, 2022, the OCC published a notice for 60 days of comment concerning this collection (87 FR 39590). No comments were received. Comments continue to be solicited on:

(a) Whether the information collections are necessary for the proper performance of the OCC's functions, including whether the information has practical utility;

(b) The accuracy of the OCC's estimates of the burden of the information collections, including the validity of the methodology and assumptions used;

(c) Ways to enhance the quality, utility, and clarity of the information to be collected; and

(d) Ways to minimize the burden of information collections on respondents, including through the use of automated collection techniques or other forms of information technology.

Theodore J. Dowd,
Deputy Chief Counsel, Office of the Comptroller of the Currency.

[FR Doc. 2022-24455 Filed 11-8-22; 8:45 am]

BILLING CODE 4810-33-P